DEPARTMENT OF ENERGY

Federal Energy Regulatory Commission

[Docket No. IC01-1-001 FERC Form No. 1]

Information Collection Submitted for Review and Request for Comments

January 23, 2002.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of section 3507 of the Paperwork Reduction Act of 1995 (Public Law 104-13). Any interested person may file comments on the collection of information directly with OMB and should address a copy of those comments to the Commission as explained below. The Commission received comments from six entities. Of the six, two represented either their subsidiaries or on behalf of a collective group of electric utilities. Information about the electric utilities and individual companies that participated is listed in Appendix D of the submission. The actual comments themselves are included in Attachment A. These entities commented in response to an earlier Federal Register notice of August 7, 2001 (66 FR 41217). The Commission has responded to these comments in its submission to OMB.

DATES: Comments regarding this collection of information are best assured of having their full effect if received within 30 days of this notification.

ADDRESSES: Address comments to Office of Management and Budget, Office of Information and Regulatory Affairs, Attention: Federal Energy Regulatory Commission, Desk Officer, 725 17th Street, NW., Washington, DC 20503. The Desk Officer may also be reached at (202) 395-7318. A copy of the comments should also be sent to Federal Energy Regulatory Commission, Office of the Chief Information Officer, Attention: Mr. Michael Miller, 888 First Street NE., Washington, DC 20426.

FOR FURTHER INFORMATION CONTACT: Mr. Miller may be reached by telephone at (202) 208-1415, by fax at (202) 208-2425, and by e-mail at mike.miller@ferc.gov.

SUPPLEMENTARY INFORMATION:

Description

The energy information collection submitted to OMB for review contains:

1. Collection of Information: FERC Form 1 “Annual Report for Major Electric Utilities, Licensees and Others”.

2. Sponsor: Federal Energy Regulatory Commission.

3. Control No.: OMB No. 1902-0021. The Commission is now requesting that OMB approve a three-year extension of the current expiration date, with proposed changes to the existing collection. There is a decrease in the reporting burden due to the proposed elimination of eleven schedules and the abolishment of the paper copy filing requirement. There is also an adjustment due to an increase in the number of entities who are now subject to the Commission's jurisdiction and as a result must submit this annual report. This is a mandatory information collection requirement.

4. Necessity of Collection of Information: Submission of the information is necessary to enable the Commission to carry out its responsibilities in implementing the provisions of the Federal Power Act (FPA). Under the FPA the Commission may prescribe a system of accounts for jurisdictional companies, and after notice and hearing, may determine the accounts in which particular outlays and receipts will be entered, charged or credited. The FERC Form 1 is designed to collect financial information from privately owned electric utilities and licensees who have generation, transmission, distribution and sales of electric energy, however produced throughout the United States and its possessions, subject to the Commission's jurisdiction.

Respondent Description: The respondent universe currently comprises on average, 216 companies subject to the Commission's jurisdiction.

6. Estimated Burden: 226,800 total burden hours, 216 respondents, 1 response annually, 1,050 hours per response (average).

7. Estimated Cost Burden to Respondents: 226,800 hours ÷ 2,080 hours per year × $117,041 per year = $12,713,112 average cost per respondent = $58,857.

Statutory Authority: Sections 304 and 309 of the Federal Power Act (FPA), 16 U.S.C. 825c-825h.

Linwood A. Watson, Jr.,
Acting Secretary.

[FR Doc. 02-2096 Filed 1-28-02; 8:45 am]

BILLING CODE 6717-01-P